DEPARTMENT OF COMMERCE

International Trade Administration

[A-570-093]

Refillable Stainless Steel Kegs From the People's Republic of China: Final Results of the Antidumping Duty Administrative Review; 2019-2020; Correction

AGENCY: Enforcement and Compliance, International Trade Administration, Department of Commerce.

ACTION: Notice; correction.

SUMMARY: The U.S. Department of Commerce (Commerce) published notice in the Federal Register of July 8, 2022, in which Commerce announced the final results of the 2019-2020 administrative review of the antidumping duty (AD) order on refillable stainless steel kegs (kegs) from the People's Republic of China (China). This notice contained incorrect assessment and cash deposit rates for the China-wide entity.

FOR FURTHER INFORMATION CONTACT: Konrad Ptaszynski, AD/CVD Operations, Office I, Enforcement and Compliance, International Trade Administration, U.S. Department of Commerce, 1401 Constitution Avenue NW, Washington, DC 20230; telephone: (202) 482-6187.

SUPPLEMENTARY INFORMATION:

Correction

In the Federal Register of July 8, 2022, in FR Doc 2022-14566, on page 40785, in the second column, correct the second paragraph of the “Assessment Rates” caption to state the correct assessment rate of 63.60 percent for the China-wide entity. Also on page 40785, in the third column, correct the first paragraph of the “Cash Deposit Requirements” caption to state the correct cash deposit rate of 63.60 percent for the China-wide entity.

Background

On July 8, 2022, Commerce published in the Federal Register the final results of the 2019-2020 administrative review of the AD order on kegs from China.¹ Under the “Assessment Rates” section, we incorrectly stated the assessment rate of 77.13 percent for the China-wide entity. We also incorrectly stated the cash deposit rate of 77.13 percent for the China-wide entity in the “Cash Deposit Requirements” section. The 77.13 percent rate should instead state the correct assessment and cash deposit rate of 63.60 percent for the China-wide entity.

¹ See Refillable Stainless Steel Kegs from the People's Republic of China: Final Results of the Antidumping Duty Administrative Review; 2019-2020, 87 FR 40784 (July 8, 2022).

Notification to Interested Parties

This notice is issued and published in accordance with sections 751(a)(l), 751(a)(2)(B), and 777(i) of the Tariff Act of 1930, as amended.

Dated: July 25, 2022.
Ryan Majerus,
Deputy Assistant Secretary for Policy and Negotiations.

[FR Doc. 2022-16310 Filed 7-28-22; 8:45 am]

BILLING CODE 3510-DS-P